DEPARTMENT OF TRANSPORTATION

Federal Aviation Administration

Sixty Ninth Plenary for RTCA SC-135 Environmental Testing

AGENCY: Federal Aviation Administration (FAA), U.S. Department of Transportation (DOT).

ACTION: Sixty Ninth Plenary for RTCA SC-135 Environmental Testing.

SUMMARY: The FAA is issuing this notice to advise the public of a meeting of Sixty Ninth Plenary RTCA SC-135 Environmental Testing.

DATES: The meeting will be held April 27, 2017 09:00 a.m.-05:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Sixty Ninth RTCA SC-135 Environmental Testing Plenary. The agenda will include the following:

Thursday, April 27, 2017—9:00 a.m. to 5:00 p.m.

1. Chairmen's Opening Remarks, Introductions.

2. Approval of Summary from the Sixty-Eighth Meeting—(RTCA Paper No. 026-17/SC135-711).

3. Review Working Group Summaries.

4. Review Schedule.

5. New/Unfinished Business.

6. Establish Date for Next SC-135 Meeting.

7. Closing.

Working Group meetings will take place on April 25-26, 2017 prior to the plenary at the same location. Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on January 13, 2017.
Mohannad Dawoud,
Management & Program Analyst, Partnership Contracts Branch, ANG-A17, NextGen, Procurement Services Division, Federal Aviation Administration.

[FR Doc. 2017-01282 Filed 1-19-17; 8:45 am]

BILLING CODE 4910-13-P